DEPARTMENT OF LABOR

Office of the Secretary

Submission for OMB Review: Comment Request

April 15, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: OMB Desk Officer for the Employment and Training Administration (ETA), Office of Management and Budget, Room 10235, Washington, DC 20503, Telephone: 202-395-7316/Fax: 202-395-6974 (these are not a toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without of a currently approved collection.

Title of Collection: Internal Fraud Activities.

OMB Control Number: 1205-0187.

Agency Form Number: ETA-9000.

Affected Public: State Governments.

Estimated Number of Respondents: 53.

Estimated Total Annual Burden Hours: 159.

Estimated Total Annual Costs Burden: $0.

Description: Collection of the ETA-9000 data helps to provide information for the continuing evaluation of the Internal Security program for Unemployment Insurance. The time lag between detection of a vulnerability and implementation of a safeguard to overcome or correct the vulnerability puts the system at risk. The availability of data to evaluate the effectiveness of the safeguard can help shorten an agency's response in safeguarding automated areas of operation. For additional information, see related notice published at 73 FR 2940 on January 16, 2008.

Agency: Employment and Training Administration.

Type of Review: Revision of a currently approved collection.

Title of the Collection: National Agriculture Workers Survey (NAWS).

OMB Control Number: 1205-0453.

Form Number: None.

Affected Public: Individuals or households.

Estimated Number of Respondents: 4,008.

Estimated Total Annual Burden Hours: 3,411.

Estimated Total Annual Costs Burden: $0.

Description: NAWS provides an understanding of the manpower resources available to U.S. agriculture. It is the national source of information on the demographic, occupational health and employment characteristics of hired crop workers.

For additional information, see related notice published at 72 FR 50983 on September 5, 2007.

Darrin A. King,
Acting Departmental Clearance Officer.

[FR Doc. E8-8539 Filed 4-18-08; 8:45 am]

BILLING CODE 4510-FM-P